DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Initial Review Group; Biological Aging Review Committee.

Date: March 7, 2006.

Time: 12 p.m. to 5 p.m.

Agenda: To review and evaluate grant applications.

Place: National Institute on Aging, 7201 Wisconsin Avenue, 2C212, Bethesda, MD 20814. (Telephone Conference Call).

Contact Person: Alessandra M. Bini, PhD, Scientific Review Office National Institute on Aging, National Institutes of Health, 7201 Wisconsin Avenue, Bethesda, MD 20892. 301-402-7708. binia@nia.nih.gov.

Name of Committee: National Institute on Aging Special Emphasis Panel; Vitamins Trial.

Date: March 10, 2006.

Time: 1 p.m. to 2 p.m.

Agenda: To review and evaluate grant applications.

Place: National Institute on Aging, Gateway Building, Room 2C212, 7201 Wisconsin Avenue, Bethesda, MD 20892. (Telephone Conference Call).

Contact Person: Ramesh Vemuri, PhD, Scientific Review Office, National Institute on Aging, National Institutes of Health, Room 2C212, 7201 Wisconsin Avenue, Bethesda, MD 20892. 301-402-7700. rv23r@nih.gov.

Name of Committee: National Institute on Aging Special Emphasis Panel; AD Pilot Trials.

Date: March 10, 2006.

Time: 2 p.m. to 4 p.m.

Agenda: To review and evaluate grant applications.

Place: National Institute on Aging, Gateway Building, Room 2C212, 7201 Wisconsin Avenue, Bethesda, MD 20892. (Telephone Conference Call).

Contact Person: Ramesh Vemuri, PhD, Scientific Review Office, National Institute on Aging, National Institutes of Health, Room 2C212, 7201 Wisconsin Avenue, Bethesda, MD 20892. 301-402-7700. rv23r@nih.gov.

Name of Committee: National Institute on Aging Special Emphasis Panel; “Inflammation and Aging”.

Date: March 15-17, 2006.

Time: 4 p.m. to 5 p.m.

Agenda: To review and evaluate grant applications.

Place: Quality Suites & Conference Center, 3 Research Court, Rockville, MD 20850.

Contact Person: Alessandra M. Bini, PhD, Scientific Review Office, National Institute on Aging, National Institutes of Health, 7201 Wisconsin Avenue, Bethesda, MD 20892. 301-402-7708. binia@nia.nih.gov.

Name of Commitee: National Institute on Aging Special Emphasis Panel; Beeson.

Date: March 15-16, 2006.

Time: 4 p.m. to 2 p.m.

Agenda: To review and evaluate grant applications.

Place: Clarion Bethesda Park Hotel, 8400 Wisconsin Avenue, Bethesda, MD 20814.

Contact Person: Jon E. Rolf, PhD, Scientific Review Administrator, Scientific Review Office, National Institute on Aging, Bethesda, MD 20814. (301) 402-7703. rolfj@nia.nih.gov.

Name of Committee: National Institute on Aging Special Emphasis Panel; Pepper Center.

Date: March 22-24, 2006.

Time: 6 p.m. to 4 p.m.

Agenda: To review and evaluate grant applications.

Place: Holiday Inn-Bethesda, 8120 Wisconsin Avenue, Bethesda, MD 20814.

Contact Person: Alicja L. Markowska, PhD, DSC, Scientific Review Office, National Institute on Aging, National Institutes of Health, 7201 Wisconsin Avenue, Suite 2C212, Bethesda, MD 20892. 301-496-9666. markowsa@nia.nih.gov.

Name of Committee: National Institute on Aging Special Emphasis Panel; “Alzheimer's Disease Cooperative Study (ADCS)”.

Date: March 28-29, 2006.

Time: 6 p.m. to 5 p.m.

Agenda: To review and evaluate grant applications.

Place: Bethesda Marriott (Pooks Hill), 5151 Pooks Hill Road, Bethesda, MD 20814.

Contact Person: Ramesh Vemuri, PhD, Scientific Review Office, National Institute on Aging, National Institutes of Health, Room 2C212, 7201 Wisconsin Avenue, Bethesda, MD 20892. 301-402-7700. rv23r@nih.gov.

(Catalogue of Federal Domestic Assistance Program Nos. 93.866, Aging Research, National Institutes of Health, HHS)

Dated: February 9, 2006.
Anna Snouffer,
Acting Director, Office of Federal Advisory Committee Policy.

[FR Doc. 06-1480 Filed 2-16-06; 8:45 am]

BILLING CODE 4140--M